JUDICIAL CONFERENCE OF THE UNITED STATES

Advisory Committee on Appellate Rules; Hearing of the Judicial Conference

AGENCY: Judicial Conference of the United States.

ACTION: Advisory Committee on Appellate Rules; notice of cancellation of open hearing.

SUMMARY: The following public hearing on proposed amendments to the Federal Rules of Appellate Procedure has been canceled: Appellate Rules Hearing on February 6, 2026.

DATES: February 6, 2026.

FOR FURTHER INFORMATION CONTACT: Carolyn A. Dubay, Esq., Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

SUPPLEMENTARY INFORMATION: The announcement for this hearing was previously published in the Federal Register on July 14, 2025 at 90 FR 31242.

(Authority: 28 U.S.C. 2073.)

Dated: January 8, 2026.
Shelly L. Cox,
Management Analyst, Rules Committee Staff.

[FR Doc. 2026-00331 Filed 1-9-26; 8:45 am]

BILLING CODE 2210-55-P